DEPARTMENT OF THE TREASURY

Submission for OMB Review; Comment Request

August 9, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 19, 2002, to be assured of consideration.

Financial Management Service (FMS)

OMB Number: 1510-0057.

Form Number: None.

Type of Review: Extension.

Title: Annual Letters—Certificates of Authority (A) and Admitted Reinsurer (B).

Description: Annual letters are sent to insurance companies providing surety bonds to protect the Federal Government or companies providing reinsurance (except on excess risks running to the United States). Information provided is needed for the renewal of Treasury Certified companies and determination of underwriting limitations, and renewal of companies recognized as Admitted Reinsurers. Summary information of Treasury Certified companies is published in Circular 570, while a separate list of companies recognized as Admitted Reinsurers is generated.

Respondents: Business or other for-profit.

Estimated Number of Respondents: 347.

Estimated Burden Hours Per Respondent: 39 hours and 45 minutes.

Frequency of Response: Annually.

Estimated Total Reporting Burden: 13,793 hours.

Clearance Officer:Juanita Holder, Financial Management Service, 3700 East West Highway, Room 135, PGP II, Hyattsville, MD 20782.

OMB Reviewer: Joseph F. Lackey, Jr., Office of Management and Budget, Room 10235, New Executive Office Building, Washington, DC 20503, (202) 395-7316.

Lois K. Holland,
Departmental Reports, Management Officer.

[FR Doc. 02-21054 Filed 8-19-02; 8:45 am]

BILLING CODE 4830-01-P